NATIONAL CREDIT UNION ADMINISTRATION

Sunshine Act; Notice of Agency Meeting

TIME AND DATE: 10 a.m., Thursday, December 15, 2011.

PLACE: Board Room, 7th Floor, Room 7047, 1775 Duke Street, Alexandria, VA 22314-3428.

STATUS: Open.

Matters To Be Considered

1. Final Rule—Part 704 of NCUA's Rules and Regulations, Corporate Credit Unions.

2. NCUA Strategic Plan 2011-2014.

3. NCUA Annual Performance Budget 2012.

4. National Security Delegations of Authority.

5. Request from Henrico Federal Credit Union to Expand its Community Charter.

6. Proposed Rule—Parts 701, 703 and 742 of NCUA's Rules and Regulations, Reg Flex Relief.

7. Proposed Rule—Parts 701 and 741 of NCUA's Rules and Regulations, Loan Participations.

8. Advance Notice of Proposed Rulemaking, Part 741 of NCUA's Rules and Regulations, Maintaining Access to Emergency Liquidity.

9. 2012 Budget for NCUA Guaranteed Note Securities Management and Oversight.

10. Insurance Fund Report.

FOR FURTHER INFORMATION CONTACT: Mary Rupp, Secretary of the Board, Telephone: (703) 518-6304.

Mary Rupp,
Board Secretary.

[FR Doc. 2011-31928 Filed 12-8-11; 4:15 pm]

BILLING CODE 7535-01-P